DEPARTMENT OF HEALTH AND HUMAN SERVICES

National Institutes of Health

Center for Scientific Review; Amended Notice of Meeting

Notice is hereby given of a change in the meeting of the Center for Scientific Review Special Emphasis Panel, June 26, 2006, 8:30 a.m. to June 26, 2006, 6 p.m., Double Tree Rockville, 1750 Rockville, Pike, Rockville, MD, 20852 which was published in the Federal Register on May 23, 2006, 71 FR 29660-29661,

The meeting will be held at the Bethesda Marriott Hotel, 5151 Pooks Hill Road, Bethesda, MD 20814. The meeting date and time remain the same. The meeting is closed to the public.

Dated: June 21, 2006.
Linda Payne,
Acting Director, Office ofFederal Advisory Committee Policy.

[FR Doc. 06-5885 Filed 6-29-06; 8:45 am]

BILLING CODE 4140-01-M